DEPARTMENT OF ENERGY

Federal Energy Regulatory Commission

[Project No. 2594-013-MT]

Northern Lights, Inc.; Notice of Availability of Environmental Assessment

December 9, 2010.

In accordance with the National Environmental Policy Act of 1969 and the Federal Energy Regulatory Commission (Commission) regulations, 18 CFR Part 380 (Order No. 486, 52 FR 47879), the Office of Energy Projects has reviewed the application for a new license for the existing Lake Creek Hydroelectric Project, located on Lake Creek in Lincoln County, Montana, near the City of Troy and prepared a final environmental assessment (EA). The project does not occupy federal lands.

The Final EA contains the staff's analysis of the potential environmental impacts of the project and concludes that licensing the project would not constitute a major federal action that would significantly affect the quality of the human environment.

A copy of the Final EA is on file with the Commission and is available for public inspection. The Final EA may also be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

Kimberly D. Bose,
Secretary.

[FR Doc. 2010-31565 Filed 12-15-10; 8:45 am]

BILLING CODE 6717-01-P